DEPARTMENT OF LABOR

Employment and Training Administration

[TA-W-54,369]

SEH America, Inc., Vancouver, WA; Notice of Termination of Investigation

Pursuant to section 221 of the Trade Act of 1974, as amended, an investigation was initiated on February 26, 2004, in response to a worker petition filed by a company official on behalf of workers at SEH America, Inc., Vancouver, Washington.

The petitioner has requested that the petition be withdrawn. Consequently, the investigation has been terminated.

Signed at Washington, DC, this 2nd day of April 2004.
Elliott S. Kushner,
Certifying Officer, Division of Trade Adjustment Assistance.

[FR Doc. 04-19320 Filed 8-23-04; 8:45 am]

BILLING CODE 4510-30-P